OFFICE OF PERSONNEL MANAGEMENT

5 CFR Part 532

RIN 3206-AM62

Prevailing Rate Systems; Abolishment of Montgomery, Pennsylvania, as a Nonappropriated Fund Federal Wage System Wage Area

AGENCY: U.S. Office of Personnel Management.

ACTION: Final rule.

SUMMARY: The U.S. Office of Personnel Management is issuing a final rule to abolish the Montgomery, Pennsylvania, nonappropriated fund (NAF) Federal Wage System (FWS) wage area and redefine Chester, Montgomery, and Philadelphia Counties, PA, to the Burlington, NJ, NAF wage area and Luzerne County, PA, to the Morris, NJ, NAF wage area. Bucks County, PA, will no longer be defined to an NAF wage area. These changes are necessary because the closure of the Naval Air Station Joint Reserve Base (NAS JRB) Willow Grove left the Montgomery wage area without an activity having the capability to conduct a local wage survey.

DATES: Effective date: This regulation is effective on October 16, 2012. Applicability date: FWS employees remaining in the Montgomery NAF wage area were transferred to the Burlington and Morris NAF wage area schedules on the first day of the first applicable pay period beginning on or after May 15, 2012.

FOR FURTHER INFORMATION CONTACT: Madeline Gonzalez, (202) 606-2838; email pay-leave-policy@opm.gov; or Fax: (202) 606-4264.

SUPPLEMENTARY INFORMATION: On May 15, 2012, the U.S. Office of Personnel Management (OPM) issued an interim rule (77 FR 28471) to abolish the Montgomery, Pennsylvania, nonappropriated fund (NAF) Federal Wage System (FWS) wage area and redefine Chester, Montgomery, and Philadelphia Counties, PA, to the Burlington, NJ, NAF wage area and Luzerne County, PA, to the Morris, NJ, NAF wage area. Bucks County, PA, will no longer be defined to an NAF wage area. The Federal Prevailing Rate Advisory Committee, the national labor-management committee responsible for advising OPM on matters concerning the pay of FWS employees, reviewed and recommended these changes by consensus. The interim rule had a 30-day comment period, during which OPM received no comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
John Berry,
Director.

Accordingly, under the authority of 5 U.S.C. 5343, the interim rule published on May 15, 2012, amending 5 CFR part 532 (77 FR 28471) is adopted as final with no changes.

[FR Doc. 2012-25422 Filed 10-15-12; 8:45 am]

BILLING CODE 6325-39-P